DEPARTMENT OF DEFENSE

Defense Acquisition Regulations System

48 CFR Part 219

[DFARS Case 2006-D010]

Defense Federal Acquisition Regulation Supplement; Extension of Contract Goal for Small Disadvantaged Businesses and Certain Institutions of Higher Learning

AGENCY: Defense Acquisition Regulations System, Department of Defense (DoD).

ACTION: Final rule.

SUMMARY: DoD has issued a final rule amending the Defense Federal Acquisition Regulation Supplement (DFARS) to implement Section 842 of the National Defense Authorization Act for Fiscal Year 2006. Section 842 extends, through fiscal year 2009, DoD's goal to award five percent of contract and subcontract dollars to small disadvantaged businesses, historically black colleges and universities, and minority institutions.

DATES: Effective Date: July 11, 2006.

FOR FURTHER INFORMATION CONTACT: Ms. Deborah Tronic, Defense Acquisition Regulations System, OUSD (AT&L) DPAP (DARS), IMD 3C132, 3062 Defense Pentagon, Washington, DC 20301-3062. Telephone (703) 602-0289; facsimile (703) 602-0350. Please cite DFARS Case 2006-D010.

SUPPLEMENTARY INFORMATION:

A. Background

10 U.S.C. 2323 establishes a goal for DoD to award five percent of contract and subcontract dollars to small disadvantaged businesses, historically black colleges and universities, and minority institutions. Section 842 of the National Defense Authorization Act for Fiscal Year 2006 (Pub. L. 109-163) extended the period for applicability of the goal through fiscal year 2009. This final rule amends DFARS 219.800 to reflect the extension.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2006-D010.

C. Paperwork Reduction Act

The Paperwork Reduction Act does not apply, because the rule does not impose any information collection requirements that require the approval of the Office of Management and Budget under 44 U.S.C. 3501 et seq.

List of Subjects in 48 CFR Part 219

Government procurement.

Michele P. Peterson,
Editor, Defense Acquisition Regulations System.

Therefore, 48 CFR part 219 is amended as follows:

PART 219-SMALL BUSINESS PROGRAMS

1. The authority citation for 48 CFR part 219 continues to read as follows:

Authority: 41 U.S.C. 421 and 48 CFR Chapter 1.

219.000 [Amended]

2. Section 219.000 is amended in the introductory text by removing “2006” and adding in its place “2009”.

[FR Doc. E6-10853 Filed 7-10-06; 8:45 am]

BILLING CODE 5001-08-P